DEPARTMENT OF COMMERCE

Foreign-Trade Zones Board

Order No. 1566

Grant of Authority for Subzone Status, Louisiana Energy Services, L.P. (Gas Centrifuge Production Equipment), Lea County, NM

Pursuant to its authority under the Foreign-Trade Zones Act, of June 18, 1934, as amended (19 U.S.C. 81a-81u), the Foreign-Trade Zones Board (the Board) adopts the following Order:

Whereas, the Foreign-Trade Zones Act provides for ”...the establishment... of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the City of Albuquerque Aviation Department, grantee of Foreign-Trade Zone 110, has made application to the Board for authority to establish a special-purpose subzone for the assembly and installation of gas centrifuge production equipment for the enrichment of uranium at the facility of Louisiana Energy Services, L.P., located in Lea County, New Mexico (FTZ Docket 18-2007, filed 4/20/07);

Whereas, notice inviting public comment was given in the Federal Register (72 FR 21218-21219, 4/30/07); and,

Whereas, the Board adopts the findings and recommendations of the examiner's report, and finds that the requirements of the FTZ Act and the Board's regulations are satisfied, and that approval of the application is in the public interest;

Now, therefore, the Board hereby grants authority for subzone status for activity related to the assembly and installation of gas centrifuge production equipment for the enrichment of uranium at the facility of Louisiana Energy Services, L.P., located in Lea County, New Mexico (Subzone 110B), as described in the application and Federal Register notice, and subject to the FTZ Act and the Board's regulations, including Section 400.28.

Signed at Washington, DC, this 23rd day of June 2008.

David M. Spooner,
Assistant Secretary of Commerce for Import Administration, Alternate Chairman, Foreign-Trade Zones Board.
Attest:
Andrew McGilvray,
Executive Secretary.

[FR Doc. E8-14913 Filed 6-30-08; 8:45 am]

BILLING CODE 3510-DS-S